DEPARTMENT OF ENERGY

Federal Energy Regulatory Commission

[Docket No. CP17-40-006]

Spire STL Pipeline LLC; Notice of Intent To Prepare a Supplemental Environmental Impact Statement for The Spire STL Pipeline Project, Request for Comments on Environmental Issues, and Schedule for Environmental Review

The staff of the Federal Energy Regulatory Commission (FERC or Commission) will prepare a supplemental environmental impact statement (EIS) that will discuss the environmental impacts related to the continued operation of the Spire STL Pipeline Project facilities by Spire STL Pipeline LLC (Spire) in Scott, Greene, and Jersey Counties, Illinois and St. Charles and St. Louis Counties, Missouri. By way of background, on June 22, 2021, the U.S. Court of Appeals for the District of Columbia Circuit issued an opinion vacating and remanding the Commission's August 3, 2018 Order Issuing Certificate (2018 Order) that approved the Spire STL Pipeline Project.¹ On September 14, 2021, and December 3, 2021, the Commission issued temporary certificates of public convenience and necessity to Spire to continue to operate the facilities constructed under the earlier terms, conditions, and authorizations, including Spire's tariff. On remand, the Commission will evaluate Spire's pending certificate application,² and consider whether to grant a certificate of public convenience and necessity to Spire to continue operation of the Spire STL Pipeline Project in Illinois and Missouri.

¹ Environmental Defense Fund v. FERC, 2 F.4th 953 (D.C. Cir. 2021).

² Following the D.C. Circuit's vacatur and remand of the Commission's 2018 Order, Spire's January 26, 2017 application for a certificate of public convenience and necessity to construct and operate the Spire STL Pipeline Project is again pending before the Commission.

The Commission must determine whether the project is in the public convenience and necessity under the Natural Gas Act, taking into consideration the factors discussed in the Court's decision. The supplemental EIS will tier off Commission staff's analysis and conclusions as documented in staff's environmental assessment (EA) for the project issued on September 29, 2017,³ as well as the environmental discussion contained in the 2018 Order. The Commission will use this supplemental EIS in its decision-making process to determine whether the Spire STL Pipeline Project is in the public convenience and necessity in light of the Court's vacatur and remand. The schedule for preparation of the supplemental EIS is discussed in the Schedule for Environmental Review section of this notice.

³ The EA is filed in FERC's eLibrary system in Docket Nos. CP17-40-000 and CP17-40-001 under Accession No. 20170929-3022.

This notice announces the opening of the scoping process the Commission will use to gather input from the public and interested agencies regarding the project. As part of the National Environmental Policy Act (NEPA) review process, the Commission takes into account concerns the public may have about proposals and the environmental impacts that could result from its action whenever it considers the issuance of a Certificate of Public Convenience and Necessity. This gathering of public input is referred to as “scoping.” The main goal of the scoping process is to focus the analysis in the supplemental EIS on the important environmental issues. Additional information about the Commission's NEPA process is described below in the NEPA Process and the Supplemental EIS section of this notice.

By this notice, the Commission requests public comments on the scope of issues to address in the supplemental EIS, including comments on potential alternatives and impacts related specifically to the continued operation of the Spire STL Pipeline Project. To ensure that your comments are timely and properly recorded, please submit your comments so that the Commission receives them in Washington, DC on or before 5:00 p.m. Eastern Time on January 14, 2022. Further details on how to submit comments are provided in the Public Participation section of this notice.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP17-40-006) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Additionally, the Commission offers a free service called eSubscription. This service provides automatic notification of filings made to subscribed dockets, document summaries, and direct links to the documents. Go to https://www.ferc.gov/ferc-online/overview to register for eSubscription.

Summary of the Project Facilities

The Spire STL Pipeline Project consists of the following facilities:

• 59.2 miles of 24-inch-diameter pipeline (the Mainline);

• 6.0 miles of 24-inch-diameter pipeline (designated as the North County Extension);

• three new meter and regulator stations (meter stations);

• three new mainline valves; and

• installation of three pig ⁴ launcher/receivers.

⁴ A pipeline “pig” is a device to clean or inspect the pipeline. A pig launcher/receiver is an aboveground facility where pigs are inserted or retrieved from the pipeline.

The project currently transports up to 400 million standard cubic feet per day of firm natural gas transportation service to the St. Louis metropolitan area, eastern Missouri, and southwestern Illinois. According to Spire, the Spire STL Pipeline Project was developed as a new source of supply that would provide its customers with supply diversity and greater reliability.

The general location of the project is shown in appendix 1.⁵

⁵ The appendices referenced in this notice will not appear in the Federal Register. Copies of the appendices were sent to all those receiving this notice in the mail and are available at http://www.ferc.gov using the link called “eLibrary” or from the Commission's Public Reference Room, 888 First Street NE, Washington, DC 20426, or call (202) 502-8371. For instructions on connecting to eLibrary, refer to the last page of this notice.

The NEPA Process and the Supplemental EIS

The supplemental EIS will discuss environmental impacts that could occur as a result of the continued operation of the Spire STL Pipeline Project. As a result, the supplemental EIS will include a reevaluation of the operational impacts previously analyzed in the EA, including environmental justice, air emissions, and noise levels. Additionally, Commission staff will evaluate reasonable alternatives (further discussed below) and will also make recommendations on how to lessen or avoid impacts on the various resource areas. Your comments will help Commission staff focus its analysis on the issues that may have a significant effect on the human environment.

The supplemental EIS will present Commission staff's independent analysis of the issues. Staff will prepare a draft supplemental EIS which will be issued for public comment. Commission staff will consider all timely comments received during the comment period on the draft supplemental EIS and revise the document, as necessary, before issuing a final supplemental EIS. Any draft and final supplemental EIS will be available in electronic format in the public record through eLibrary ⁶ and the Commission's natural gas environmental documents web page (https://www.ferc.gov/industries-data/natural-gas/environment/environmental-documents). If eSubscribed, you will receive instant email notification when the environmental document is issued.

⁶ For instructions on connecting to eLibrary, refer to the last page of this notice.

Alternatives Under Consideration

The supplemental EIS will evaluate reasonable alternatives that are technically and economically feasible and meet the purpose and need for the proposed action involving the continued operation of the Spire STL Pipeline Project.⁷ Alternatives currently under consideration include the no-action alternative (i.e., the project would no longer be authorized to continue operating after the expiration of its current temporary certificate). Potential actions that will be analyzed as part of the no-action alternative also include:

⁷ 40 CFR 1508.1(z).

• Pipeline and aboveground facility abandonment by removal;

• pipeline and aboveground facility abandonment in place; and

• system alternatives (e.g., Natural Gas Pipeline Company of America, LLC; MoGas Pipeline, LLC; and Spire Missouri Inc. systems, as identified in Spire's filing of November 12, 2021).

Schedule for Environmental Review

This notice identifies the Commission staff's planned schedule for completion of the final supplemental EIS for the project, which is based on an issuance of the draft supplemental EIS in June 2022.

Issuance of Notice of Availability of the final supplemental EIS: October 7, 2022

If a schedule change becomes necessary for the final supplemental EIS, an additional notice will be provided so that the relevant agencies are kept informed of the project's progress.

Environmental Mailing List

This notice is being sent to the Commission's current environmental mailing list for the project which includes federal, state, and local government representatives and agencies; elected officials; environmental and public interest groups; Native American Tribes; other interested parties; and local libraries and newspapers. This list also includes all affected landowners (as defined in the Commission's regulations) for the original Spire STL Pipeline Project and anyone who submits comments on the present case. Commission staff will update the environmental mailing list as the analysis proceeds to ensure that Commission notices related to this environmental review are sent to all individuals, organizations, and government entities interested in and/or potentially affected by the project.

If you need to make changes to your name/address, or if you would like to remove your name from the mailing list, please complete one of the following steps:

(1) Send an email to GasProjectAddressChange@ferc.gov stating your request. You must include the docket number CP17-40 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the project is available from the Commission's Office of External Affairs, at (866) 208-FERC, or on the FERC website at www.ferc.gov using the eLibrary link. Click on the eLibrary link, click on “General Search” and enter the docket number in the “Docket Number” field (i.e., CP17-40). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: December 15, 2021.
Kimberly D. Bose,
Secretary.

[FR Doc. 2021-27785 Filed 12-22-21; 8:45 am]

BILLING CODE 6717-01-P